DEPARTMENT OF LABOR

Employment and Training Administration

[TA-W-39,324]

Maverick Tube Corp., Beaver Falls, PA; Notice of Revised Determination on Remand

The United States Court of International Trade (USCIT), on May 6, 2003, granted the Secretary of Labor's motion for voluntary remand for further investigation of the negative determination in Former Employees of Maverick Tube Corp. v. U.S. Secretary of Labor (Court No. 02-00185).

The Department's initial denial of the petition for employees of Maverick Tube Corporation, Beaver Falls, Pennsylvania was issued on December 31, 2001 and published in the Federal Register on January 11, 2002 (67 FR 1510). The investigation revealed that criterion (3) was not met. The Department conducted a survey of the major declining customers of Maverick Tube Corp., regarding their purchases of cold drawn tubular products for 1999, 2000 and January through March 2001. The results of the survey indicated that customer import purchases of cold drawn tubular product declined during the relevant period.

On remand, the Department conducted a survey of additional customers not supplied during the initial investigation. The survey revealed that customers increased their reliance on imported cold drawn tubular products during the relevant period.

Conclusion

After careful review of the facts obtained in the investigation, I conclude that increases of imports of articles like or directly competitive with cold drawn tubular products produced at Maverick Tube Corporation, Beaver Falls, Pennsylvania contributed importantly to the decline in sales or production and to the total or partial separation of workers of that firm.

In accordance with the provisions of the Trade Act, I make the following certification:

All workers of Maverick Tube Corporation, Beaver Falls, Pennsylvania who became totally or partially separated from employment on or after May 11, 2000, through two years from the issuance of this revised determination, are eligible to apply for adjustment assistance under Section 223 of the Trade Act of 1974.

Signed at Washington, DC this 19th day of June 2003.
Elliott S. Kushner,
Certifying Officer, Division of Trade Adjustment Assistance.

[FR Doc. 03-16903 Filed 7-2-03; 8:45 am]

BILLING CODE 4510-30-P